SECURITIES AND EXCHANGE COMMISSION

[File No. 500-1]

Order of Suspension of Trading

September 11, 2015.

In the Matter of American Smooth Wave Ventures Inc., ASA International Ltd., Baker Manufacturing Co., Center For Wound Healing, Inc. (The), China Interactive Education, Inc., China Now, Inc., China Prosperous Clean Energy Corp., Cleopatra International Group, Inc., Craft College, Inc., Denia Enterprises, Inc., English Language Learning & Instruction System, Inc., Garman Cabinet & Millwork, Inc., KBK Capital Corp., LeapLab Corp., Lee Fine Arts, Inc. (a/k/a Commerce Holdings, Inc.), Maplex Alliance, Ltd., Obsidian Enterprises, Inc., Octavian Global Technologies, Inc., Ostashkov Industrial, Inc., Single Source Investment Group, Inc., Tupper, Inc., UBK Resources Co., Vomart International Auto Parts, Inc., Wilson Creek Mining Corp., Yuanwang Rich Selenium Agricultural Products Group Holding Co., Zhongbao International, Inc.

It appears to the Securities and Exchange Commission that there is a lack of current and accurate public information concerning the securities of each of the issuers detailed below because questions have arisen as to their operating status, if any. Each of the issuers below is quoted on OTC Link operated by OTC Markets Group, Inc. The staff of the Securities and Exchange Commission has independently endeavored to determine whether any of the issuers below are operating. Each of the issuers below either confirmed they were now private companies or failed to respond to the staff's inquiry about their operating status, did not have an operational address, or failed to provide their registered agent with an operational address. The staff of the Securities and Exchange Commission also determined that none of the issuers below has filed any information with OTC Markets Group, Inc. or the Securities and Exchange Commission for the past two years.

Issuer | Ticker | Information regarding operating status *
1. American Smooth Wave Ventures Inc. | ASWV | 1
2. ASA International Ltd. | ASAL | 2
3. Baker Manufacturing Co. | BKRM | 2
4. Center for Wound Healing, Inc. (The) | CFWH | 1
5. China Interactive Education, Inc. | CIVN | 1
6. China Now, Inc. | CINW | 1
7. China Prosperous Clean Energy Corp. | CHPC | 1
8. Cleopatra International Group, Inc. | CLIN | 1
9. Craft College, Inc. | CRAF | 1
10. Denia Enterprises, Inc. | DNIA | 1
11. English Language Learning & Instruction System, Inc. | ELLG | 1
12. Garman Cabinet & Millwork, Inc. | GNTM | 1
13. KBK Capital Corp. | KBKC | 1
14. LeapLab Corp. | LLAB | 1
15. Lee Fine Arts, Inc. (a/k/a Commerce Holdings, Inc.) | LEFA | 1
16. Maplex Alliance, Ltd. | MAPX | 1
17. Obsidian Enterprises, Inc. | OBDE | 1
18. Octavian Global Technologies, Inc. | OCTV | 1
19. Ostashkov Industrial, Inc. | OSKV | 1
20. Single Source Investment Group, Inc. | SGSP | 1
21. Tupper, Inc. | TPPR | 1
22. UBK Resources Co. | UBKR | 1
23. Vomart International Auto Parts, Inc. | VOMT | 1
24. Wilson Creek Mining Corp. | WCRE | 1
25. Yuanwang Rich Selenium Agricultural Products Group Holding Co. | YUNW | 1
26. Zhongbao International, Inc. | ZBIT | 1
* Below are explanations for each of the codes used in the above table:
1 = The staff of the Securities and Exchange Commission attempted to contact the issuer and either the staff did not receive a response to its letter, the letters were returned as undeliverable, or the registered agent responded that they had no forwarding address for the issuer.
2 = The staff of the Securities and Exchange Commission was able to contact the issuer, which informed the staff that it was now a private company.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on September 11, 2015, through 11:59 p.m. EDT on September 24, 2015.

By the Commission.
Jill M. Peterson,
Assistant Secretary.

[FR Doc. 2015-23237 Filed 9-11-15; 4:15 pm]

BILLING CODE 8011-01-P